FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (www.fmc.gov) or by contacting the Office of Agreements at (202)-523-5793 or tradeanalysis@fmc.gov.

Agreement No.: 011707-012.

Title: Gulf/South America Discussion Agreement.

Parties: BBC Chartering & Logistic GmbH & Co. KG; Industrial Maritime Carriers LLC; Seaboard Marine, Ltd.

Filing Party: Wade S. Hooker, Esq.; 211 Central Park W; New York, NY 10024.

Synopsis: The amendment clarifies that BBC Chartering Carriers GmbH & Co. KG (BBC Carriers) and BBC Chartering & Logistic GmbH & Co. KG (BBC Logistic), both common carrier members of BBC Chartering Group, are to be treated as a single party to the agreement.

Agreement No.: 012067-010.

Title: U. S. Supplemental Agreement to HLC Agreement.

Parties: BBC Chartering & Logistics GmbH & Co. KG; Beluga Chartering GmbH; Chipolbrok; Clipper Project Ltd.; Hyndai Merchant Marine Co., Ltd.; Industrial Maritime Carriers, L.L.C.; Nordana Line A/S; and Rickmers-Linie GmbH & Cie. KG.

Filing Party: Wade S. Hooker, Esq.; 211 Central Park W; New York, NY 10024.

Synopsis: The amendment clarifies that BBC Chartering Carriers GmbH & Co. KG (BBC Carriers) and BBC Chartering & Logistic GmbH & Co. KG (BBC Logistic), both common carrier members of BBC Chartering Group, are to be treated as a single party to the agreement.

Agreement No.: 012237.

Title: Liberty Global Logistics LLC/Hapag-Lloyd USA, LLC Cooperative Working Agreement.

Parties: Liberty Global Logistics LLC and Hapag-Lloyd USA, LLC.

Filing Parties: Marc J. Fink, Esq.; Cozen O'Connor; 1627 I Street NW., Suite 1100; Washington, DC 20006.

Synopsis: The agreement authorizes the parties to charter space to and from one another in the trade between ports on the U.S. East and Gulf Coasts on the one hand, and ports in Europe, ports on the Baltic, Arabian and Red Seas, ports on the Persian Gulf, and ports in the Middle East, India, and Pakistan, on the other hand.

By Order of the Federal Maritime Commission.
Dated: December 13, 2013.
Karen V. Gregory,
Secretary.

[FR Doc. 2013-30099 Filed 12-17-13; 8:45 am]

BILLING CODE 6730-01-P